DEPARTMENT OF THE INTERIOR

Fish and Wildlife Service

Draft Revised Recovery Plan for Hawaiian Waterbirds, Second Draft of Second Revision

AGENCY: Fish and Wildlife Service, Interior.

ACTION: Notice of document availability for review and comment.

SUMMARY: The U.S. Fish and Wildlife Service (we) announces the availability of the Draft Revised Recovery Plan for Hawaiian Waterbirds, Second Draft of Second Revision, for public review and comment.

DATES: Comments on the second draft revised recovery plan must be received on or before October 24, 2005.

ADDRESSES: Copies of the second draft revised recovery plan are available for inspection, by appointment, during normal business hours at the following location: U.S. Fish and Wildlife Service, Pacific Islands Fish and Wildlife Office, 300 Ala Moana Boulevard, Room 3-122, Box 50088, Honolulu, Hawaii 96850 (telephone: 808-792-9400). Requests for copies of the second draft revised recovery plan and written comments and materials regarding this plan should be addressed to the Field Supervisor, Ecological Services, at the above Honolulu address. An electronic copy of the second draft revised recovery plan is also available at http://endangered.fws.gov/recovery/index.html#plans.

FOR FURTHER INFORMATION CONTACT: Eric VanderWerf, Fish and Wildlife Biologist, at the above Honolulu address.

SUPPLEMENTARY INFORMATION:

Background

Recovery of endangered or threatened animals and plants is a primary goal of the Endangered Species Act (Act) (16 U.S.C. 1531 et seq.) and our endangered species program. Recovery means improvement of the status of listed species to the point at which listing is no longer required under the criteria set out in section 4(a)(1) of the Act. Recovery plans describe actions considered necessary for the conservation of the species, establish criteria for downlisting or delisting listed species, and estimate time and cost for implementing the measures needed for recovery.

The Act requires the development of recovery plans for endangered or threatened species unless such a plan would not promote the conservation of the species. Section 4(f) of the Act requires that public notice, and an opportunity for public review and comment, be provided during recovery plan development. We will consider all information presented during the public comment period on each new or revised recovery plan. Substantive comments may result in changes to a recovery plan. Substantive comments regarding recovery plan implementation may not necessarily result in changes to the recovery plan, but will be forwarded to appropriate Federal agency or other entities so that they can take these comments into account during the course of implementing recovery actions. Individual responses to comments will not be provided.

This second draft revised recovery plan addresses four species of Hawaiian waterbirds: The Hawaiian duck or koloa maoli (Anas wyvilliana), Hawaiian coot or ‘alae ke‘oke‘o (Fulica alai), Hawaiian common moorhen or ‘alae ‘ula (Gallinula chloropus sandvicensis), and Hawaiian stilt or ae‘o (Himantopus mexicanus knudseni), all listed as endangered. A recovery plan for these four waterbirds was first published in 1978, and the first revision of the recovery plan was published in 1985. On July 9, 1999, we published in the Federal Register a notice announcing the availability for comment of a draft of the second revision to the recovery plan (64 FR 37148). However, we never finalized that draft. The plan we are releasing at this time is the second draft of the second revised recovery plan for Hawaiian waterbirds.

Historically, these four species of waterbirds were found on all of the main Hawaiian Islands except Lāna‘i and Kaho‘olawe. Currently, Hawaiian ducks are found on the islands of Ni‘ihau, Kaua‘i, O‘ahu, Maui, and Hawai‘i; Hawaiian coots and stilts are found on all of the main Hawaiian Islands except Kaho‘olawe; and Hawaiian common moorhens are found only on the islands of Kaua‘i and O‘ahu. Population estimates indicate the numbers of birds fluctuate among years and that currently none of these species consistently number more than 2,000 individuals, with the exception of the Hawaiian coot, but these estimates are reliable only for the coot and the stilt.

These endangered Hawaiian waterbirds are found in a variety of wetland habitats including freshwater marshes and ponds, coastal estuaries and ponds, artificial reservoirs, taro (Colocasia esculenta) patches, irrigation ditches, sewage treatment ponds, and in the case of the Hawaiian duck, montane streams and swamplands. The most important cause of decline of the four species of endangered Hawaiian waterbirds is loss of wetland habitat. Other factors that have contributed to waterbird population declines, and which continue to be detrimental, include predation by introduced animals, altered hydrology, alteration of habitat by invasive nonnative plants, disease, and possibly environmental contaminants. Hunting in the late 1800’s and early 1900's took a heavy toll on Hawaiian duck populations, and to a lesser extent on populations of the other three endemic waterbirds. Currently, predation by introduced animals may be the greatest threat to the coot, moorhen, and stilt, and hybridization with feral mallards is the most serious threat to the Hawaiian duck.

The recovery of the endangered waterbirds focuses on the following objectives: (1) Increasing population numbers to be consistently stable or increasing with a minimum of 2,000 birds for each species; (2) establishing multiple, self-sustaining breeding populations throughout each species' historical range; (3) establishing and protecting a network of both core and supporting wetlands that are managed as habitat suitable for waterbirds, including the maintenance of appropriate hydrological conditions and control of invasive nonnative plants; (4) for all four species, eliminating or controlling the threats posed by introduced predators, avian diseases, and contaminants; and (5) for the Hawaiian duck, removing the threat of hybridization with feral mallards. If the recovery criteria presented in the second draft revised recovery plan are met, downlisting could be initiated in 2010 and delisting in 2015.

Public Comments Solicited

We solicit written comments on the second draft revised recovery plan described. All comments received by the date specified above will be considered prior to approval of this plan.

Authority

The authority for this action is section 4(f) of the Endangered Species Act, 16 U.S.C. 1533 (f).

Dated: May 11, 2005.
David J. Wesley,
Acting Regional Director, Region 1, U.S. Fish and Wildlife Service.

[FR Doc. 05-16833 Filed 8-23-05; 8:45 am]

BILLING CODE 4310-55-P